DEPARTMENT OF HOUSING AND URBAN DEVELOPMENT

[Docket No. FR-4971-N-20]

Notice of Proposed Information Collection: Comment Request Subpoenas and Production in Response to Subpoenas or Demands of Courts or Other Authorities

AGENCY: Office of the Chief Information Officer, HUD.

ACTION: Notice.

SUMMARY: The proposed information collection requirement described below will be submitted to the Office of Management and Budget (OMB) for review, as required by the Paperwork Reduction Act. The Department is soliciting public comments on the subject proposal.

DATES: Comments Due Date: June 17, 2005.

ADDRESSES: Interested persons are invited to submit comments regarding this proposal. Comments should refer to the proposal by name and should be sent to: Wayne Eddins, AYO, Reports Management Officer, Department of Housing and Urban Development, 451 7th Street, SW., L'Enfant Plaza Building, Room 8001, Washington, DC 20410; fax: (202) 708-3135; e-mail Wayne_Eddins@HUD.gov.

FOR FURTHER INFORMATION CONTACT: Wayne Eddins, e-mail Wayne_Eddins@HUD.gov; telephone (202) 755-2374 (this is not a toll-free number) for copies of the proposed forms and other available information.

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Subpoenas and Production in Response to Subpoenas or Demands of Courts or Other Authorities.

OMB Control Number, if applicable: 2535—not yet approved.

Description of the need for the information and proposed use: Upon request or demand of documents or testimony, the Counsel for the Inspector General will review the demand and determine whether an OIG employee is authorized to release documents or testify. The Counsel will notify the requester of the final determination and the reasons for the grant or denial of the request.

If a party or any person is aggrieved by the Counsel's decision denying a request for documents or testimony, that party or person may seek review of the decision by filing a written Notice of Intention to Petition for Review (Notice). After filing this Notice, the party or person must also file a Petition for Review (Petition) detailing the issues and reasons why a review of the Counsel's decision is appropriate.

Agency form numbers, if applicable: None.

Estimation of the total number of hours needed to prepare the information collection, including number of respondents, and hours of response:

Number of respondents | Number of responses per respondent | Average time per responses (hrs) | Estimated annual burden (hrs)
8 | 2 | 5 | 80

Frequency of Response: On occasion.

Status of the proposed information collection: New collection.

Authority: Section 3506 of the Paperwork Reduction Act of 1995, 44 U.S.C. Chapter 35, as amended.

Dated: April 12, 2005.
Wayne Eddins,
Departmental Paperwork Reduction Act Officer, Office of the Chief Information Officer.

[FR Doc. E5-1808 Filed 4-15-05; 8:45 am]

BILLING CODE 4210-27-P